DEPARTMENT OF COMMERCE

International Trade Administration

[A-570-601]

Tapered Roller Bearings and Parts Thereof, Finished and Unfinished, From the People's Republic of China: Continuation of the Antidumping Duty Order

AGENCY: Import Administration, International Trade Administration, Department of Commerce.

SUMMARY: As a result of the determinations by the Department of Commerce (“Department”) and the International Trade Commission (“ITC”) that revocation of the antidumping duty order on tapered roller bearings and parts thereof, finished and unfinished (“TRBs”), from the People's Republic of China (“PRC”) would likely lead to a continuation or recurrence of dumping and material injury to an industry in the United States, the Department is publishing a notice of continuation of the antidumping duty order.

DATES: Effective Date: August 30, 2012.

FOR FURTHER INFORMATION CONTACT: Lindsey Novom, AD/CVD Operations, Office 8, Import Administration, International Trade Administration, U.S. Department of Commerce, 14th Street and Constitution Avenue NW., Washington, DC 20230; telephone: (202) 482-5256.

SUPPLEMENTARY INFORMATION: On August 1, 2011, the Department initiated the third sunset review of the antidumping duty order on TRBs from the PRC pursuant to section 751(c) of the Tariff Act of 1930, as amended (“Act”).¹

¹ See Initiation of Five-Year (“Sunset”) Review, 76 FR 45778 (August 1, 2011) (“Sunset Initiation”).

As a result of its review, the Department determined that revocation of the antidumping duty order on TRBs from the PRC would likely lead to a continuation or recurrence of dumping and, therefore, notified the ITC of the magnitude of the margins likely to prevail should the order be revoked.²

² See Tapered Roller Bearings and Parts Thereof, Finished and Unfinished, from the People's Republic of China: Final Results of the Expedited Third Sunset Review of the Antidumping Duty Order, 76 FR 76143 (December 6, 2011).

On July 31, 2012, the ITC determined, pursuant to section 751(c) of the Act, that revocation of the antidumping duty order on TRBs from the PRC would likely lead to a continuation or recurrence of material injury to an industry in the United States within a reasonably foreseeable time.³

³ See Tapered Roller Bearings from China: Investigation No. 731-TA-344 (Third Review), USITC Publication 4343 (August 2012), and Tapered Roller Bearings From China, 77 FR 50716 (August 22, 2012).

Scope of the Order

The products covered by the order are tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (“HTSUS”) item numbers 8482.20.00, 8482.91.00.50, 8482.99.15, 8482.99.45, 8483.20.40, 8483.20.80, 8483.30.80, 8483.90.20, 8483.90.30, 8483.90.80, 8708.99.80.15 ⁴ and 8708.99.80.80.⁵ Although the HTSUS item numbers are provided for convenience and customs purposes, the written description of the scope of the order and this review is dispositive.⁶

⁴ Effective January 1, 2007, the HTSUS subheading 8708.99.8015 is renumbered as 8708.99.8115. See ITC publication entitled, “Modifications to the Harmonized Tariff Schedule of the United States Under Section 1206 of the Omnibus Trade and Competitiveness Act of 1988,” USITC Publication 3898 (December 2006) found at www.usitc.gov.

⁵ Effective January 1, 2007, the HTSUS subheading 8708.99.8080 is renumbered as 8708.99.8180. Id.

⁶ Subsequent to the issuance of the order, the Department has issued numerous scope rulings. See Memorandum entitled “Tapered Roller Bearings from the People's Republic of China: Final Scope Ruling on Blackstone OTR LLC and OTR Wheel Engineering, Inc.'s Wheel Hub Assemblies and TRBs,” dated February 7, 2011 (finding Blackstone OTR LLC and OTR Wheel Engineering, Inc.'s wheel hub assemblies are within the scope of the order); Memorandum entitled, “Tapered Roller Bearings from the People's Republic of China: Final Scope Ruling on New Trend Engineering Ltd.'s Wheel Hub Assemblies,” dated April 18, 2011 (finding New Trend Engineering Limited's splined and non-splined wheel hub assemblies without antilock braking system (“ABS”) elements are included in the scope of the order and its wheel hub assemblies with ABS elements are also included in the scope of the order); Memorandum entitled “Tapered Roller Bearings from the People's Republic of China Final Scope Determination on Bosda's Wheel Hub Assemblies,” dated June 14, 2011 (finding Bosda International (USA) LLC's wheel hub assemblies are within the scope of the order); and Memorandum entitled “Tapered Roller Bearings and Parts Thereof, finished and Unfinished, from the People's Republic of China—Final Scope Determination on DF Machinery's Agricultural Hub Units,” dated August 3, 2011 (finding DF Machinery International, Inc.'s agricultural hub units are included in the scope of the order).

Continuation of the Order

As a result of these determinations by the Department and the ITC that revocation of the antidumping duty order on TRBs would likely lead to a continuation or recurrence of dumping and material injury to an industry in the United States, pursuant to section 751(d)(2) of the Act, the Department hereby orders the continuation of the antidumping duty order on TRBs from the PRC. U.S. Customs and Border Protection will continue to collect antidumping duty cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year sunset review and this notice are in accordance with section 751(c) of the Act and published pursuant to section 777(i)(1) of the Act.

Dated: August 23, 2012.
Paul Piquado,
Assistant Secretary for Import Administration.

[FR Doc. 2012-21447 Filed 8-29-12; 8:45 am]

BILLING CODE 3510-DS-P